FEDERAL COMMUNICATIONS COMMISSION

[CC Docket No. 96-45; DA 01-2869]

IT&E Overseas, Inc. Petition for Designation as an Eligible Telecommunications Carrier in the Territory of Guam

AGENCY: Federal Communications Commission.

ACTION: Notice; solicitation of comments.

SUMMARY: In a Public Notice in this proceeding released on December 11, 2001, the Common Carrier Bureau sought comment on the IT&E Overseas, Inc. Petition for Designation as an Eligible Telecommunications Carrier in the territory of Guam.

DATES: Comments are due on or before January 18, 2002. Reply comments are due on or before February 4, 2002.

ADDRESSES: See SUPPLEMENTARY INFORMATION section for where and how to file comments.

FOR FURTHER INFORMATION CONTACT: Richard D. Smith or Anita Cheng, Attorney, or Sheryl Todd, Management Analyst, Common Carrier Bureau, Accounting Policy Division, (202) 418-7400 TTY: (202) 418-0484.

SUPPLEMENTARY INFORMATION: On December 6, 2001, IT&E Overseas, Inc. (IT&E) filed with the Commission a petition under section 214(e)(6) seeking designation as an eligible telecommunications carrier (ETC) to receive Federal universal service support for service offered in Guam. Specifically, IT&E contends that the Public Utilities Commission of Guam (Guam Commission) has provided an affirmative statement that it does not regulate commercial mobile radio service (CMRS) carriers, IT&E meets all the statutory and regulatory prerequisites for ETC designation, and designating IT&E as an ETC will serve the public interest. The Common Carrier Bureau seeks comment on the IT&E petition, including the requested service area.

The petitioner must provide copies of its petition to the Guam Commission at the time of filing with the Commission. The Commission will also send a copy of this Notice to the Guam Commission by overnight express mail to ensure that the Guam Commission is notified of the notice and comment period.

Pursuant to §§ 1.415 and 1.419 of the Commission's rules, interested parties may file comments as follows: Comments are due January 18, 2002 and reply comments are due February 4, 2002. Comments may be filed using the Commission's Electronic Comment Filing System (ECFS) or by filing paper copies. See Electronic Filing of Documents in Rulemaking Proceedings, 63 FR 24121 (1998). Comments filed through the ECFS can be sent as an electronic file via the Internet to http://www.fcc.gov/e-file/ecfs.html. Generally, only one copy of an electronic submission must be filed. In completing the transmittal screen, commenters should include their full name, Postal Service mailing address, and the applicable docket or rulemaking number. Parties may also submit electronic comments by Internet e-mail. To receive filing instructions for e-mail comments, commenters should send an e-mail to ecfs@fcc.gov, and should include the following words in the body of the message, “get form <your e-mail address>.” A sample form and directions will be sent in reply. Parties who choose to file by paper must file an original and four copies of each filing. All filings must be sent to the Commission's Secretary, Magalie Roman Salas, Office of the Secretary, Federal Communications Commission, 445 12th Street, SW., Washington, DC 20554.

Parties also must send three paper copies of their filing to Sheryl Todd, Accounting Policy Division, Common Carrier Bureau, Federal Communications Commission, 445 Twelfth Street, SW., Room 5-B540, Washington, DC 20554. In addition, commenters must send diskette copies to the Commission's copy contractor, Qualex International, Portals II, 445 Twelfth Street, SW., Room CY-B402, Washington, DC 20554.

Pursuant to § 1.1206 of the Commission's rules, this proceeding will be conducted as a permit-but-disclose proceeding in which ex parte communications are permitted subject to disclosure.

Dated: December 13, 2001.
Katherine L. Schroder,
Division Chief, Accounting Policy Division.

[FR Doc. 01-31226 Filed 12-18-01; 8:45 am]

BILLING CODE 6712-01-M